DEPARTMENT OF THE TREASURY

Community Development Financial Institutions Fund

Notice of Funds Availability Inviting Applications for the Native American CDFI Assistance Program

AGENCY: Community Development Financial Institutions Fund, Department of the Treasury.

ACTION: Change in eligibility criteria.

SUMMARY: On December 4, 2003, the Community Development Financial Institutions Fund (the “Fund”) announced in a NOFA for the Native American CDFI Assistance Program (68 FR 67908) that the Fund will not consider an application submitted by an applicant that is a previous Fund awardee under any Fund program or component of the CDFI Program if the applicant has failed to meet its reporting requirements. The Fund recently obtained clarification from the Office of Management and Budget that results in an extension of the deadline by which an awardee must provide us with its audited financial statement. As a result of this clarification, this notice revises the current NOFA to state that the Fund will not consider the late submission of audited financial statements an eligibility criterion for the Native American CDFI Assistance Program FY 2003 and 2004 funding rounds.

Please note that for those prior awardee applicants, lateness in submitting a FY 2003 Annual Financial Report will not make your organization ineligible to apply for funding under this NOFA. However, the Fund will continue to consider applicants ineligible for funding if any other current year reports are overdue as of the funding application deadline. All other information and requirements set forth in the December 4, 2003 NOFA for the Native American CDFI Assistance Program shall remain effective, as published.

FOR FURTHER INFORMATION, CONTACT: If you have any questions about the programmatic requirements for this program, contact the Fund's Financial and Special Initiatives Manager. If you have questions regarding administrative requirements, contact the Fund's Grants Management and Compliance Manager. The Financial and Special Initiatives Manager and the Grants Management and Compliance Manager may be reached by e-mail at cdfihelp@cdfi.treas.gov, by telephone at (202) 622-6355, by facsimile at (202) 622-7754, or by mail at CDFI Fund, 601 13th Street, NW., Suite 200 South, Washington, DC 20005. These are not toll free numbers.

Authority: 12 U.S.C. 4703; Chapter X, Pub. L. 104-19, 109 Stat. 237.

Dated: April 5, 2004.
Owen M. Jones,
Acting Director, Community Development Financial Institutions Fund.

[FR Doc. 04-8090 Filed 4-8-04; 8:45 am]

BILLING CODE 4810-70-P